DEPARTMENT OF COMMERCE

National Oceanic and Atmospheric Administration

RIN 0648-XF373

Council Coordination Committee Meeting

AGENCY: National Marine Fisheries Service (NMFS), National Oceanic and Atmospheric Administration (NOAA), Commerce.

ACTION: Notice of public meeting.

SUMMARY: The New England Fishery Management Council (NEFMC) will host a meeting of the Council Coordination Committee (CCC) consisting of eight Regional Fishery Management Council (RFMC) chairs, vice chairs, and executive directors—and its subcommittees—in May 2017. The intent of this meeting is to discuss issues of relevance to the Councils, including: Budget issues, MSA reauthorization, National Standard 1, recreational fishery issues, enforcement activities, a review of recent legal actions, conflict of interest policy guidance, other topics of concern to the RFMCs, and decisions and follow-up activities.

DATES: The meeting will be held May 15-18, 2017. Registration for the meeting will begin at 1 p.m. on Monday, May 15, 2017. The meeting will begin at 8:30 a.m. on Tuesday, May 16, 2017, and recess at 5:15 p.m. or when business is complete. The meeting will reconvene at 8:30 a.m. on Wednesday, May 17, 2017, until 5 p.m. or when business is complete. The meeting will reconvene on the final day at 8:30 a.m. on Thursday, May 18, 2017 and adjourn whenever business is complete.

ADDRESSES: The meeting will be held at the Beauport Hotel Gloucester, 55 Commercial Street, Gloucester MA 01930; telephone: (978) 282-0008.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.; email: tnies@nefmc.org.

SUPPLEMENTARY INFORMATION: The Magnuson-Stevens Fishery Conservation (MSA) and Management Reauthorization Act (MSRA) established the CCC by amending section 302 (16 U.S.C. 1852) of the MSA. The committee consists of the chairs, vice chairs, and executive directors of each of the eight Regional Fishery Management Councils authorized by the MSA or other Council members or staff. NEFMC will host this meeting and provide reports to the CCC for its information and discussion. All sessions are open to the public. NMFS or other Council items of discussion for each individual management committee agenda are as follows:

Agenda

Tuesday, May 16, 2017; 8:30 a.m.-5:15 p.m.

• Welcome and Introductions;

• NMFS update and 2017 priorities;

• Council round robin of current issues;

• Electronic monitoring/electronic reporting cost monitoring;

• Legislative update and MSA Reauthorization; and

• National Monuments and Marine Sanctuaries.

—Adjourn for the day

Wednesday, May 17, 2017; 8:30 a.m.-5 p.m.

• Overview of recent legal actions;

• NOAA Conflict of Interest Policy Guidance;

• Update on science policy issues: Best Scientific Information Available and the Stock Assessment Improvement Program;

• Recreational fisheries update;

• Recreational catch monitoring alternatives and issues; and

• Enforcement activities of the U.S. Coast Guard and NOAA Office of Law Enforcement.

—Adjourn for the day

Thursday, May 18, 2017; 8:30 a.m.-4:30 p.m.

• National Standard 1 Questions and Clarifications;

• FY 2017 Management and Budget Update;

• Fishery Independent Data Funding Outlook;

• International negotiations and appointments;

• Regulatory review issues;

• CCC Work Group reports and planning; and

• Other business and wrap-up; future meeting plans.

The timing and order in which agenda items are addressed may change as required to effectively address the issues. The CCC will meet as late as necessary to complete scheduled business.

In addition to the main CCC meeting, there will be a concurrent meeting of the deputy director or a senior staff member from each Council. This group will share information on Council administrative practices and will report to the CCC on Thursday, May 18.

The public also should be aware that the meeting will be recorded and a transcript prepared. Consistent with 16 U.S.C. 1852, a copy of the recording is available upon request.

Special Accommodations

This meeting is physically accessible to people with disabilities. Requests for sign language interpretation or other auxiliary aids should be directed to Thomas A. Nies (see ADDRESSES) at least 5 days prior to the meeting date.

Dated: April 27, 2017.
Emily H. Menashes,
Acting Director, Office of Sustainable Fisheries, National Marine Fisheries Service.

[FR Doc. 2017-08825 Filed 5-1-17; 8:45 am]

BILLING CODE 3510-22-P